DEPARTMENT OF AGRICULTURE

Agricultural Marketing Service

[Doc. No. AMS-SC-23-0069]

Notice of Request for Extension and Revision of a Currently Approved Information Collection

AGENCY: Agricultural Marketing Service, USDA.

ACTION: Notice and request for comments.

SUMMARY: In accordance with the Paperwork Reduction Act of 1995, this notice announces the Agricultural Marketing Service's (AMS) intention to request approval from the Office of Management and Budget (OMB) for an extension of and revision to the currently approved information collection 0581-0268 for the Christmas Tree Promotion, Research and Information Program.

DATES: Comments must be received by February 13, 2024.

ADDRESSES: Interested persons are invited to submit written comments concerning this notice. All comments must be submitted through the Federal e-rulemaking portal at https://www.regulations.gov and should reference the document number and the date and page number of this issue of the Federal Register. All comments submitted in response to this notice will be included in the rulemaking record and will be made available to the public. The identity of the individuals or entities submitting comments will be made public on the internet at https://www.regulations.gov.

FOR FURTHER INFORMATION CONTACT: Katie Cook, Marketing Specialist at telephone: (202) 720-8085, or electronic mail: Katie.Cook@usda.gov, or Sarah Richardson, Marketing Specialist at telephone: 202-720-8085 electronic mail: Sarah.Richardson@usda.gov, Market Development Division, Specialty Crops Program, AMS, USDA, Stop 0244, Room 1406-S, 1400 Independence Avenue SW, Washington, DC 20250-0244.

SUPPLEMENTARY INFORMATION:

Title: Christmas Tree Promotion, Research, and Information Program.

OMB Number: 0581-0268.

Expiration Date of Approval: June 30, 2024.

Type of Request: Extension and revision of a currently approved information collection.

Abstract: The Christmas Tree Promotion, Research, and Information program was created to help strengthen the position of Christmas trees in the marketplace, and maintain, develop, and expand markets for Christmas trees in the United States. The Christmas Tree Promotion, Research, and Information Order (Order) (7 CFR part 1214) is authorized under the Commodity Promotion, Research, and Information Act of 1996 (1996 Act) (7 U.S.C. 7411-7425).

The Order was implemented November 2011, and immediately stayed. The stay was lifted on April 7, 2014, in accordance with the provisions of the Agriculture Act of 2014 (2014 Farm Bill). Currently, the Christmas tree program is administered by the Christmas Tree Promotion Board (Board) which is appointed by the Secretary of Agriculture and financed by a mandatory assessment on producers and importers of fresh cut Christmas trees. The assessment rate is $0.15 per Christmas tree cut and sold domestically or imported into the United States. The program provides an exemption for producers and importers that cut and sell or import fewer than 500 Christmas trees annually. In 2019, a referendum was held among eligible producers and importers to determine whether they favor continuation of the program. Fifty-five percent of Christmas tree producers and importers who voted were in favor of continuing the program, and therefore, the program continues to help maintain and expand markets for Christmas trees.

The information collection requirements in this request are essential to carry out the intent of the Order and the 1996 Act. The objective in carrying out this responsibility includes assuring the following: (1) funds are collected and properly accounted for; (2) expenditures of all funds are for the purposes authorized by the 1996 Act and Order; and (3) the board's administration of the programs conforms to USDA policy.

The Order's provisions have been carefully reviewed and every effort has been made to minimize any unnecessary recordkeeping costs or requirements, including efforts to utilize information already submitted under other Christmas tree programs administered by USDA and other State programs.

The forms covered under this collection require the minimum information necessary to effectively carry out the requirements of the program. Such information can be supplied without data processing equipment or outside technical expertise. In addition, there are no additional training requirements for individuals filling out reports and remitting assessments to the Board. The forms are simple, easy to understand, and place as small a burden as possible on the person required to file the information.

Collecting information yearly would coincide with normal industry business practices. The timing and frequency of collecting information are intended to meet the needs of the industry while minimizing the amount of work necessary to fill out the required reports. The requirement to keep records for two years beyond the fiscal period of their applicability is consistent with normal industry practices. In addition, the information to be included on these forms is not available from other sources because such information relates specifically to individual producers and importers who will be subject to the provisions of the Order and 1996 Act. Therefore, there is no practical method for collecting the required information without the use of these forms.

AMS is committed to complying with the E-Government Act, which requires Government agencies in general to provide the public the option of submitting information or transacting business electronically to the maximum extent possible.

Estimate of Burden: Public recordkeeping burden for this collection of information is estimated to average 0.43 hour per response.

Respondents: Producers and importers.

Estimated Number of Respondents: 5,000.

Estimated Total Annual Responses: 9,143.

Estimated Number of Responses per Respondent: 1.83.

Estimated Total Annual Burden on Respondents: 3,956 hours.

The Board utilizes a variety of forms including domestic sales report and importer sales report; application for exemption; nomination form and ballot form; reimbursement of assessments and refund application forms; donation form; and recordkeeping requirements. The forms and information covered under this information collection require minimum information necessary to effectively carry out the requirements of the program and their use is necessary to fulfill the intent of the applicable authority. Lastly, the board is always looking to provide electronic versions of the forms for easier access and submission.

Forms were updated to add a box to allow respondents to include both mailing and physical addresses, if they differ. This change allows Board staff to better record contact information for producers and importers. “Domestic Sales Report”, “Importer Sales Report”, and “Application for Exemption” were all updated to add this additional box. Forms requesting a fax number from respondents were revised to remove the box due to the expanded use of electronic mail.

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this document will be summarized and included in the request for OMB approval. All comments will become a matter of public record.

Authority: 44 U.S.C. Chapter 35.

Erin Morris,
Associate Administrator, Agriculture Marketing Service.

[FR Doc. 2023-27534 Filed 12-14-23; 8:45 am]

BILLING CODE 3410-02-P